FEDERAL COMMUNICATIONS COMMISSION

Radio Broadcasting Services; AM or FM Proposals To Change The Community of License

AGENCY: Federal Communications Commission.

ACTION: Notice.

SUMMARY: The following applicants filed AM or FM proposals to change the community of license: ALATRON CORPORATION, INC., Station WAOQ, Facility ID 825, BPH-20081216BKG, From BRANTLEY, AL, To GOSHEN, AL; BLUEBERRY BROADCASTING, LLC, Station NONE, Facility ID 165949, BMPH-20090107AED, From MACHIAS, ME, To GOULDSBORO, ME; BRANTLEY BROADCAST ASSOCIATES, LLC, Station WEZZ, Facility ID 40900, BP-20081216BKH, From MONROEVILLE, AL, To BRANTLEY, AL; CAPITOL BROADCASTING COMPANY, INC., Station WCMC-FM, Facility ID 51760, BPH-20081201AZD, From CREEDMOOR, NC, To HOLLY SPRINGS, NC; CAPSTAR TX LIMITED PARTNERSHIP, Station WRVA-FM, Facility ID 74125, BPH-20081201AOE, From ROCKY MOUNT, NC, To WAKE FOREST, NC; CHAPIN ENTERPRISES, LLC, Station KRKR, Facility ID 54707, BMPH-20081120AFR, From VALLEY, NE, To LINCOLN, NE; EL SOL BROADCASTING, LLC, Station WJTI, Facility ID 68759, BMP-20081119AHW, From RACINE, WI, To WEST ALLIS, WI; GEORGIA-CAROLINA WIRELESS, LLC, Station WESL, Facility ID 170949, BMPH-20081224AAT, From PENDLETON, SC, To LIBERTY, SC; GEOS COMMUNICATIONS, Station WGMF, Facility ID 19564, BPH-20081110AAH, From TUNKHANNOCK, PA, To DALLAS, PA; HRN BROADCASTING, INC., Station WOHS, Facility ID 26179, BP-20081224AAO, From SHELBY, NC, To CRAMERTON, NC; KANSAS CITY TRUST, LLC, TRUSTEE, Station KMAJ-FM, Facility ID 42012, BMPH-20081124ALA, From TOPEKA, KS, To CARBONDALE, KS; LA KE MANDA BROADCASTING, Station KYZQ, Facility ID 166035, BMPH-20081208AAM, From SULPHUR BLUFF, TX, To MOUNT VERNON, TX; LARAMIE MOUNTAIN BROADCASTING, LLC, Station KUSZ, Facility ID 9761, BPH-20080312ADR, From LARAMIE, WY, To LOVELAND, CO; LEGEND COMMUNICATIONS OF WYOMING, LLC, Station KZMQ, Facility ID 5245, BP-20081209ACV, From GREYBULL, WY, To TEN SLEEP, WY; MATTHEW PROVENZANO, Station KHLT, Facility ID 67285, BP-20081222ACM, From HALLETTSVILLE, TX, To STOCKDALE, TX; NEW HAMPSHIRE GOSPEL RADIO, INC., Station WANH, Facility ID 122150, BMPED-20081126AFY, From LACONIA, NH, To MEREDITH, NH; ONTARIO BROADCASTING, INC, Station KSPA, Facility ID 13899, BP-20041115AFC, From ONTARIO, CA, To CHINO, CA; SAIDNEWSFOUNDATION, Station WJKZ, Facility ID 175750, BMPED-20081201DAJ, From HANOVER, MI, To HOMER, MI; SUNRISE BROADCASTING, LLC, Station WKXB, Facility ID 59481, BPH-20081201AZU, From BURGAW, NC, To BOILING SPRING LAKES, NC; THE SCRANTON TIMES, L.P., Station WJZI, Facility ID 165339, BMPH-20081222ACO, From LIVINGSTON MANOR, NY, To HANCOCK, NY; TRUTH BROADCASTING CORPORATION, Station WDRU, Facility ID 53104, BP-20081201AVL, From WAKE FOREST, NC, To CREEDMOOR, NC; VINEYARD CHRISTIAN FELLOWSHIP OF HONOLULU, INC., Station KPHL, Facility ID 91242, BPED-20081217AEH, From PAHALA, HI, To HAWAIIAN OCEAN VIEW, HI; YOUNGERS COLORADO BROADCASTING LLC, Station KEZZ, Facility ID 165959, BMPH-20080312ADS, From WALDEN, CO, To PHIPPSBURG, CO; YOUNGERS COLORADO BROADCASTING LLC, Station KEZZ, Facility ID 165959, BMPH-20081205AFD, From WALDEN, CO, To PHIPPSBURG, CO.

DATES: Comments may be filed through April 7, 2009.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm . A copy of this application may also be purchased from the Commission's duplicating contractor, Best Copy and Printing, Inc., 445 12th Street, SW., Room CY-B402, Washington, DC, 20554, telephone 1-800-378-3160 or http://www.BCPIWEB.com.

Federal Communications Commission.
James D. Bradshaw,
Deputy Chief, Audio Division, Media Bureau.

[FR Doc. E9-2574 Filed 2-5-09; 8:45 am]

BILLING CODE 6712-01-P